DEPARTMENT OF THE INTERIOR

Bureau of Land Management

[BLM_AK_FRN_MO4500180097; AA-41952]

Alaska Native Claims Selection

AGENCY: Bureau of Land Management, Interior.

ACTION: Notice of modified decision approving lands for conveyance.

SUMMARY: The Bureau of Land Management hereby provides constructive notice that the decision approving lands for conveyance to Cook Inlet Region, Inc., notice of which was published in the Federal Register on May 2, 2024, will be modified by removing the Remaining Obligation Entitlement account balance figure, and correcting the appraised value of the lands approved in the decision.

DATES: Any party claiming a property interest in the lands affected by the decision may appeal the decision in accordance with the requirements of 43 CFR part 4 within the time limits set out in the SUPPLEMENTARY INFORMATION section.

ADDRESSES: You may obtain a copy of the decision from the Bureau of Land Management, Alaska State Office, 222 West Seventh Avenue, #13, Anchorage, Alaska 99513-7504.

FOR FURTHER INFORMATION CONTACT: Cameron Means, BLM Alaska State Office, at 907-271-3152, or cmeans@blm.gov. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: As required by 43 CFR 2650.7(d), notice is hereby given that the decision approving lands for conveyance to Cook Inlet Region, Inc., notice of which was published in the Federal Register on May 2, 2024, 89 FR 35857, 35858, will be modified by removing the Remaining Obligation Entitlement account balance figure and by correcting the appraised value of the lands approved in the decision.

Notice of the modified decision will also be published once a week for four consecutive weeks in the Anchorage Daily News.

Any party claiming a property interest in the lands affected by the changes made in the modified decision may appeal the decision in accordance with the requirements of 43 CFR part 4 within the following time limits:

1. Unknown parties, parties unable to be located after reasonable efforts have been expended to locate, parties who fail or refuse to sign their return receipt, and parties who receive a copy of the decision by regular mail which is not certified, return receipt requested, shall have until September 3, 2024 to file an appeal.

2. Parties receiving service of the decision by certified mail shall have 30 days from the date of receipt to file an appeal.

Parties who do not file an appeal in accordance with the requirements of 43 CFR part 4 shall be deemed to have waived their rights. Notices of appeal transmitted by facsimile will not be accepted as timely filed. Except as modified, the decision of May 2, 2024, notice of which was given May 2, 2024, is final.

Cameron G. Means,
Land Law Examiner, Branch of Adjudication.

[FR Doc. 2024-17050 Filed 8-1-24; 8:45 am]

BILLING CODE 4331-10-P